DEPARTMENT OF HOUSING AND URBAN DEVELOPMENT

[Docket No. FR-4837-D-01]

Consolidated Delegation of Authority for the Office of Housing

AGENCY: Office of the Secretary, HUD.

ACTION: Notice of revocation and delegation of authority.

SUMMARY: This notice consolidates all delegations of authority to the Assistant Secretary for Housing-Federal Housing Commissioner and the General Deputy Assistant Secretary for Housing-Deputy Federal Housing Commissioner. This delegation supersedes and/or revokes all prior delegations from the Secretary to the Assistant Secretary. Additionally, the authority delegated applies not only to current statutory authorities but also to later-enacted statutes and statutory amendments that pertain to the legislative acts cited in the delegation.

EFFECTIVE DATE: August 11, 2003.

FOR FURTHER INFORMATION CONTACT: Eliot C. Horowitz, Senior Advisor to the Assistant Secretary for Housing-Federal Housing Commissioner, Office of Housing, Department of Housing and Urban Development, Room 9110, Washington, DC 20410-8000; telephone (202) 708-1490. (This is not a toll-free number.) Persons with hearing or speech impairments may call HUD's toll-free Federal Information Relay Service at (800) 877-8339.

SUPPLEMENTARY INFORMATION: HUD offices have undergone several changes over the past few years. Programs and functions have been revamped and refocused so that HUD can deliver services to its clients and customers in the most productive, efficient, and responsive manner possible. A natural consequence of these changes is the restructuring of HUD offices as well as the nature and scope of the particular duties the offices perform. This, in turn, requires the issuance of new and updated delegations of authority.

The purpose of today's publication is to provide the public with a comprehensive listing of delegations of authority from the Secretary of HUD to the Assistant Secretary for Housing-Federal Housing Commissioner and the General Deputy Assistant Secretary-Deputy Federal Housing Commissioner. In the near future, the Office of Housing (Housing), which includes the Federal Housing Administration (FHA), will publish in the Federal Register, a comprehensive listing of up-to-date delegations of authority issuing from the Housing Assistant Secretary to HUD staff both within and outside of Housing. Therefore, the public shall be able to find, in one publication, all of the authority delegated from the Secretary to the Housing Assistant Secretary, and in another, all the authority redelegated by the Housing Assistant Secretary.

HUD last published a comprehensive delegation from the Secretary to the Housing Assistant Secretary and the General Deputy Assistant Secretary on May 22, 1989 (54 FR 22033). Over the years, other delegations and redelegations were issued by the Secretary and the Housing Assistant Secretary, respectively, that were program specific, e.g., recognizing authorities and functions emanating from new legislation. However, experience teaches that maintaining a comprehensive or master delegation, on the one hand, and splinter delegations, on the other, can create for the public a measure of confusion and difficulty in keeping track of which HUD offices and staff are responsible for the conduct of the various HUD programs and program components. Accordingly, Housing shall periodically update and publish, in its entirety, the Secretary's master delegation to reflect major new or modified delegations, including any revocations of authority. The Housing Assistant Secretary's master redelegation shall be treated in similar fashion. Therefore, one will only need to review a single publication to locate where Housing program authorities and functions reside.

Section A. General Delegation of Authority

Unless otherwise stated, the Assistant Secretary for Housing-Federal Housing Commissioner and the General Deputy Assistant Secretary for Housing are each delegated the power and authority of the Secretary of HUD with respect to all Housing programs and functions, including but not limited to, those listed below in Sections A through E, with authority to redelegate to employees of the Department, unless otherwise specified. Only the Housing Assistant Secretary, however, is delegated the authority to issue rules or regulations to carry out Housing programs and to waive regulations. This authority may not be redelegated. The Housing Assistant Secretary, as well as other Housing officials, are authorized to cause the seal of HUD to be affixed to, and to authenticate copies of documents. The authority to affix the seal and authenticate copies of documents is also addressed in a separate delegation of authority. Finally, the authority delegated herein supersedes and revokes prior delegations from the Secretary to the Housing Assistant Secretary and applies both to current authority and later enacted statutory authority.

Section B. Multifamily Programs—Authority Delegated:

The authority of the Secretary of HUD with respect to Housing's multifamily programs and functions authorized under the following:

(1) Titles I, II, V, VI, VII, VIII, IX, and XI of the National Housing Act (12 U.S.C. 1701 et. seq.) in exercising the power and authority delegated under this section;

(2) Section 202 of the Housing Act of 1959, as such section existed prior to the enactment of the Cranston-Gonzalez National Affordable Housing Act (12 U.S.C. 1701q note) as amended by section 811 of the American Homeownership and Economic Opportunity Act of 2000 (Pub. L. 106-561);

(3) Section 202 of the Housing Act of 1959 (12 U.S.C. 1701q), as amended by Subtitle A of Title VIII of the National Affordable Housing Act of 1990, with respect to the provision of capital advances and rental housing assistance for supportive housing for the elderly, as amended by Subtitle C of the American Homeownership and Economic Opportunity Act of 2000 (Pub. L. 106-561);

(4) Section 101 of the Housing and Urban Development Act of 1965 (12 U.S.C. 1701s) with respect to the Rent Supplement program for disadvantaged persons, including the authority to administer contracts and requirements for rent supplements;

(5) Section 8 Housing assistance under the United States Housing Act of 1937 (42 U.S.C. 1437, et seq.), including the authority delegated under Executive Order 11196, to approve the undertaking of any annual contribution, grant, or loan, or any agreement or contract for any annual contribution, grant, or loan;

(6) Section 808 of the National Affordable Housing Act, Pub. L. 101-625, and Sections 671, 672, 674, 676, and 677 of the Housing and Community Development Act of 1992 (42 U.S.C. 13631) with respect to the provision of service coordinators in federally-assisted housing;

(7) Sections 201, 202, 203, and 204 of the Housing and Community Development Amendments of 1978, and the amendments contained in Title I of the Multifamily Housing Property Disposition Reform Act of 1994 (Pub. L. 103-233, 12 U.S.C. 1701 note);

(8) The Housing Development Grant Program, pursuant to Section 17 of the United States Housing Act of 1937 (42 U.S.C.1437o);

(9) Under Section 4(d) of the Department of Housing and Urban Development Act (42 U.S.C. 3533), the Assistant Secretary for Housing-Federal Housing Commissioner is the Assistant to the Secretary who shall be responsible for providing information and advice to nonprofit organizations desiring to sponsor housing projects assisted under programs administered by the Department;

(10) The authority of the Secretary under the Revolving Fund for Liquidating Programs (12 U.S.C. 1701q) to manage, repair, lease, and otherwise take all actions necessary to protect the financial interest of the Secretary in properties as to which the Secretary is mortgagee-in-possession and to manage, repair, complete, remodel and convert, administer, dispose of, lease, sell or exchange for cash or credit at public or private sale, pay annual sums in lieu of taxes on, obtain insurance against loss on, and otherwise deal with properties as to which the Secretary has acquired title based on a loan made under the former Section 312 Rehabilitation Loan Program;

(11) The function of the Secretary under Section 7(i)(3) of the Department of Housing and Urban Development Act (42 U.S.C. 3535(i)(3)), concerning the sale, exchange, or lease of real or personal property and the sale or exchange of securities or obligations with respect to any multifamily project;

(12) Title IV of the Housing and Community Development Amendments of 1978 (42 U.S.C. 8001, et seq);

(13) Authority to endorse any checks or drafts in payment of insurance losses on which the United States of America, acting by and through the Secretary or his/her successors or assigns, is a payee (joint or otherwise) in connection with the disposition of the government's interest in property or lease of such property;

(14) Section 2 of the Housing and Urban Development Act of 1968 (12 U.S.C. 1701t);

(15) The Multifamily Mortgage Foreclosure Act of 1981 (12 U.S.C. 3701-3717);

(16) To act as an Attesting Officer with authorization to cause the seal of the Department of Housing and Urban Development to be affixed to such documents as may require its application and to certify that a copy of any book, record, paper, microfilm, or other documents is a true copy of that in the files of the Department;

(17) The Congregate Housing Services Program under Section 802 of the National Affordable Housing Act (42 U.S.C. 8011);

(18) The HOPE for Homeownership of Multifamily Units Program under Title IV, Subtitle B, of the National Affordable Housing Act (42 U.S.C. 12701, 12871);

(19) The Multifamily Risk Sharing Programs pursuant to Section 542 of the Housing and Community Development Act of 1992 (Pub. L. 102-550, October 28, 1992);

(20) Title II of the Housing and Community Development Act of 1987 (12 U.S.C. 1715 note), the Emergency Low Income and Housing Preservation Act of 1987 (ELIHPA), as amended by Subtitle A of Title VI of the National Affordable Housing Act (12 U.S.C.4101 et seq.), the Low Income Housing Preservation and Resident Homeownership Act of 1990 (LIHPRHA), as further amended by Title III of the Housing and Community Development Act of 1992 (12 U.S.C. 4141 et seq.);

(21) Section 811 of Subtitle B of Title VIII of the National Affordable Housing Act of 1990 (42 U.S.C. 8013), with respect to the provision of capital advances and rental housing assistance for supportive housing for persons with disabilities as amended by Subsection C of Title VIII of the American Homeownership and Economic Opportunity Act of 2000 (Pub. L. 106-569);

(22) Section 581 of the National Affordable Housing Act of 1990 (Pub. L. 101-625) and Chapter 2, Subtitle C of Title V of the Anti-Drug Abuse Act of 1988 (42 U.S.C. 1190 et seq.), relating to the federally-assisted low-income housing drug elimination program;

(23) The Portfolio Reengineering Demonstration program authorized under Sections 211 and 212 of the Department of Veterans Affairs and Housing and Urban Development, and Independent Agencies Appropriations Act, 1997 (Pub. L. No. 104-204, 110 Stat. 2874, approved September 26, 1997), as re-authorized and amended by Section 522(b) of the Departments of Veterans Affairs and Housing and Urban Development, and Independent Agencies Appropriations Act, 1998 (Pub. L. No. 105-65, 111 Stat. 1344, 1446, approved October 27, 1997) (42 U.S.C. 1437 fnote);

(24) To take actions necessary to ensure that participants in HUD programs under the jurisdiction of the Assistant Secretary for Housing comply with the regulations, rules, and procedures of the Department including, but not limited to, imposing limited denials of participation and acting as the debarment official in proceedings under part 24 of Title 24 of the Code of Federal Regulations;

(25) The Rental Assistance Program authorized by Section 236 of the National Housing Act (12 U.S.C. 1715z-1);

(26) The management and disposition of HUD-owned multifamily projects and HUD-held mortgages and the provision of grants and loans, as provided under Section 204(a) of the Department of Veterans Affairs and Housing and Urban Development, and Independent Agencies Appropriations Act, 1997 (Pub. L. 104-204 (12 U.S.C. 1715z-11a));

(27) Section 3 of the Housing and Urban Development Act of 1968 (12 U.S.C. 1701u);

(28) To the Housing Assistant Secretary only without authority to redelegate, the authority to issue regulations under Section 7(d) of the Department of Housing and Urban Development Act (42 U.S.C. 3535(d)), and to waive regulations under Section 7(q)(2) of the Department of Housing and Urban Development Act (42 U.S.C. 3535(q)(2));

(29) The authority to administer the provisions of Section 7(i) of the Department of Housing and Urban Development Act (42 U.S.C. 3535(i)), relating but not limited to the foreclosure of mortgages, sales of foreclosed properties, and the modification of terms of the contracts;

(30) The authority to administer the provisions of Section 7(j) of the Department of Housing and Urban Development Act (42 U.S.C. 3535(j)), relating to the establishment of fees and charges;

(31) The authority to administer the provisions of Section 7(k) of the Department of Housing and Urban Development Act (42 U.S.C. 3535(k)), relating to the acceptance of voluntary services.

Section C. Single Family Programs—Authority Delegated

The authority of the Secretary of HUD with respect to Housing single family programs and functions, and the authority with respect to mortgagee activities (including Title I lenders) for both single family and multifamily programs of the following:

(1) Titles I, II, V, VI, VIII, and IX of the National Housing Act (12 U.S.C. 1701 et seq.);

(2) Section 106 of the Housing and Urban Development Act of 1968 (12 U.S.C. 1701x);

(3) The Interstate Land Sales Full Disclosure Act, Title XIV of the Housing and Urban Development Act of 1968 (15 U.S.C. 1701, et seq.);

(4) The Real Estate Settlement Procedures Act of 1974 (12 U.S.C. 2601, et seq.);

(5) The authority to prescribe standards for designs, construction, and alteration of structures for programs (other than public housing programs) prescribed under the National Housing Act (12 U.S.C. 1701 et seq.) and the United States Housing Act of 1937 (42 U.S.C. 1437-1437n);

(6) To approve or disapprove variances from the design or construction standards for all programs (other than public housing programs) under the National Housing Act (12 U.S.C. 1701, et seq.) and the United States Housing Act of 1937 (42 U.S.C. 1437-1437n);

(7) The authority to evaluate and determine the technical suitability of housing products and materials under Section 21 of the National Housing Act (12 U.S.C. 1735e), and to issue engineering and technical bulletins governing the acceptability of housing system components, materials, and methods of construction;

(8) All matters and requirements of the National Manufactured Housing Construction and Safety Standards Act of 1974, Title VI of the Housing and Community Development Act of 1974 (42 U.S.C. 5401-5426);

(9) To convey and execute deeds of conveyance, deeds of release, assignments, satisfactions of mortgages, and any other written instrument relating to real or personal property or any interest therein, heretofore, or hereafter acquired by the Secretary pursuant to the National Housing Act (12 U.S.C. 1701, et seq.);

(10) To perform the functions of the Secretary under Section 7(i)(3) of the Department of Housing and Urban Development Act (42 U.S.C. 3535(i)(3)), concerning the sale, exchange, or lease of real or personal property, and the sale or exchange of securities or obligations with respect to any single family property;

(11) Authority to endorse any checks or drafts in payment of insurance losses on which the United States of America acting by and through the Secretary or his/her successors or assigns, is a payee (joint or otherwise), in connection with the disposition of the government's interest in property or lease of such property;

(12) The authority of the Secretary under the Revolving Funds for Liquidating Programs (12 U.S.C. 1701q) to manage, repair, lease, and otherwise take all actions necessary to protect the financial interest of the Secretary in properties as to which the Secretary is mortgagee-in-possession and to manage, repair, complete, remodel and convert, administer, dispose of, lease, sell or exchange for cash or credit at public or private sale, pay annual sums in lieu of taxes on, obtain insurance against loss on, and otherwise deal with properties as to which the Secretary has acquired title based on a loan under the former Section 312 Rehabilitation Loan Program;

(13) To act as an Attesting Officer with authorization to cause the seal of the Department of Housing and Urban Development to be affixed to such documents as may require its application and to certify that a copy of any book, record, paper, microfilm, or other document is a true copy of that in the files of the Department;

(14) The Nehemiah Housing Opportunity grant program, Sections 609-613 of the Housing and Community Development Act of 1987 (12 U.S.C. 1715e);

(15) To take actions necessary to ensure that participants in HUD programs comply with regulations, rules, and procedures of the Department including, but not limited to, imposing limited denials of participations and acting as the debarring official in proceedings under part 24 of Title 24 of the Code of Federal Regulations;

(16) To appoint a Special Assistant for Cooperative Housing pursuant to Section 102(h) of the Housing Amendments of 1955 (12 U.S.C. 1715e note);

(17) To the Housing Assistant Secretary only without authority to redelegate, the authority to issue regulations under Section 7(d) of the Department of Housing and Urban Development Act (42 U.S.C. 3535(d)), and to waive regulations under Section 7(q)(2) of the Department of Housing and Urban Development Act (42 U.S.C. 3535(q)(2));

(18) The authority to administer the provisions of Section 7(i) of the Department of Housing and Urban Development Act (42 U.S.C. 3535(i)), relating, but not limited to, the foreclosure of mortgages, sales of foreclosed properties, and the modification of terms of the contracts;

(19) The authority to administer the provisions of Section 7(j) of the Department of Housing and Urban Development Act (42 U.S.C. 3535(j)), relating to the establishment of fees and charges;

(20) The authority to administer the provisions of Section 7(k) of the Department of Housing and Urban Development Act (42 U.S.C. 3535(k)), relating to the acceptance of voluntary services.

Section D. Financial Operations and Management Controls—Authority Delegated

(1) To provide financial management for programs administered by the Assistant Secretary for Housing-Federal Housing Commissioner;

(2) To formulate and develop financial management and internal control policies; to oversee Housing/FHA's compliance with OMB Circulars A-123 (Management and Accountability Control), A-127 (Financial Management Systems), and A-130 (Federal Information Resources) as they apply to Housing and FHA financial and program operations; to establish and supervise the development and execution of uniform Housing and FHA policies, principles and procedures necessary for financial management; to issue directions that implement policies approved by the Assistant Secretary for Housing-Federal Housing Commissioner in the functions assigned to the Housing-FHA Comptroller; and to advise the Assistant Secretary for Housing-Federal Housing Commissioner on the financial impact of newly proposed housing programs and mortgagee insurance products and modification to existing products;

(3) To maintain the FHA General Ledger and the chart of accountants of the FHA funds;

(4) To establish and maintain appropriate financial management controls over Housing and FHA programs; to devise and establish insurance servicing accounting and fiscal procedures and to administer the fiscal policies and activities for Housing and FHA programs; to provide technical guidance to organizational elements under the Assistant Secretary in the field of accounting and fiscal matters; to track Housing and FHA financial activities against the budget and business plan; and to coordinate the development and maintenance of integrated financial management systems needed for accounting and management of housing and FHA programs;

(5) To prepare reports; to report to the Assistant Secretary for Housing-Federal Housing Commissioner, other Offices, the Department's Chief Financial Officer, and other HUD Regional and field staff on the financial condition of FHA mortgage insurance programs (including actual and projected cash flows, accounting and performance reports, program effectiveness controls, and insurance reserves analyses); to publish an annual FHA report reflecting prior year accomplishments and the audited financial statements; and to prepare internal reports on the financial condition of Housing and FHA programs;

(6) To develop and maintain integrated financial management systems; and to direct studies and audits of the accounting and financial information and systems functions;

(7) To prepare and execute policies and systems to measure the financial and actuarial soundness of Housing and FHA programs; and to ensure the conduct of an independent annual audit of the FHA program financial statements;

(8) To obtain reports, information, advice, and assistance in carrying out assigned functions; and to develop financial management information to assist in developing budget, financial, accounting, and cost-accounting information on a timely basis;

(9) To direct the investment of money held in the various Housing/FHA insurance funds, not needed for current operations, in bonds or other obligations of the United States, or in bonds or other obligations guaranteed as to principal and interest by the United States;

(10) To borrow funds from Treasury to facilitate credit reform programs;

Section E. Regulations of Government-Sponsored Enterprises—Authority Delegated

To perform regulatory functions authorized under the Federal Housing Enterprises Financial Safety and Soundness Act of 1992 (12 U.S.C. 4501 et seq.), as described and subject to the exceptions noted in the notice of delegation of authority published on February 12, 1999 (64 FR 7406).

Section F. Authority Excepted

Authority excepted from this delegation of authority from the Secretary of Housing and Urban Development to the Assistant Secretary for Housing-FHA Commissioner and the General Deputy Assistant Secretary for Housing is the authority to sue and be sued.

Section G. Conclusive Evidence of Authority

Any instrument or document executed in the name of the Secretary by an employee of the Department of Housing and Urban Development under the authority of this delegation purporting to relinquish or transfer any right, title, or interest in, or to real or personal property, shall be conclusive evidence of the authority of such employee to act for the Secretary in executing such instrument or document.

Section H. Delegations Revoked

This delegation supersedes and/or revokes all prior delegations from the Secretary to the Assistant Secretary for Housing-Federal Housing Commissioner and the General Deputy Assistant Secretary for Housing-Deputy Federal Housing Commissioner.

Authority: Section 7(d), Department of Housing and Urban Development Act (42 U.S.C. 3535(d)).

Dated: August 11, 2003.
Mel Martinez,
Secretary.

[FR Doc. 03-21239 Filed 8-19-03; 8:45 am]

BILLING CODE 4210-32-P